DEPARTMENT OF HEALTH AND HUMAN SERVICES

Centers for Disease Control and Prevention

[60Day-18-18UF; Docket No. CDC-2018-0032]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Evidence to Inform Standards that Ensure Turnout Gear Remains Protective Throughout Its Lifecycle that will provide data that links turnout gear use conditions to its resulting performance characteristics.

DATES: CDC must receive written comments on or before June 11, 2018.

ADDRESSES: You may submit comments, identified by Docket No. CDC-2018-0032 by any of the following methods:

• Federal eRulemaking Portal: Regulations.gov. Follow the instructions for submitting comments.

• Mail: Leroy A. Richardson, Information Collection Review Office, Centers for Disease Control and Prevention, 1600 Clifton Road NE, MS-D74, Atlanta, Georgia 30329.

Instructions: All submissions received must include the agency name and Docket Number. CDC will post, without change, all relevant comments to Regulations.gov.

Please note: Submit all Federal comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Evidence to Inform Standards that Ensure Turnout Gear Remains Protective Throughout Its Lifecycle—New—National Institute for Occupational Safety and Health (NIOSH), Centers for Disease Control and Prevention (CDC).

Background and Brief Description

The National Institute for Occupational Safety and Health (NIOSH) has been tasked to assure safe and healthful working conditions for men and women (Occupational Safety and Health Act, 1970, Pub. L. 91-596 (Section 20[a][1])). The National Personal Protective Technology Laboratory focuses on improving personal protective equipment across many industries, including the fire services. NIOSH seeks to request a three-year Office of Management and Budget approval to gather data about Personal Protective Equipment (PPE) use conditions.

Turnout gear is a type of PPE used by the 1.1 million U.S. fire fighters to shield the body from carcinogens, flames, heat, and chemical/biological agents. It serves as a barrier to external hazards while simultaneously allowing for the escape of metabolic heat to prevent elevated core body temperatures. To provide the necessary performance characteristics, turnout gear design is complex, consisting of three major layers that work as a composite—a thermal liner, a moisture barrier, and an outer shell.

Consensus standards provide performance requirements and retirement criteria for turnout gear. The retirement criteria is based on visual inspections and a 10-year age cap with visual inspection being less effective for the moisture barrier and thermal liner layers. Recent data of turnout gear donated from fire departments demonstrates that turnout gear from 2 to 10 years old was unable to meet all performance requirements. Thus, under the current retirement criteria, turnout gear that may not be protective against all hazards is being used by fire fighters.

Intuitively, the use conditions to which turnout gear would be exposed to when used by a large or medium metropolitan fire department would be very different from those of a smaller department. However, the absence of scientific data to link performance to use conditions (e.g., number and type of washings, number of fire-related calls) provides a barrier to transitioning to an alternative approach to retirement.

This study will obtain a statistically meaningful sample of turnout gear from three fire departments. The use conditions for the sampled turnout gear will be determined, and the gear will be subjected to established performance requirements. For each set of gear, its performance will be directly linked to its use condition history. This combined lab and field data will help determine if there is a relationship between turnout and gear use conditions. As well as the ability for turnout, gear too effectively protect the user.

The use conditions for each set of sampled gear will be determined by:

(1) Reviewing fire department records, practices, and policies;

(2) surveying the fire fighters assigned to each set of sampled gear to obtain one-month of retrospective information about the use conditions to which it was likely exposed; and

(3) a 6-month prospective data collection where the fire fighters assigned to each set of sampled gear provide information about their shift-specific exposures.

The survey will provide details about the use conditions (e.g., number and type of launderings, repair history, and exposure to fire-related calls) specific to the fire fighters who used the sampled turnout gear. The data produced by this study will be used to improve confidence that turnout gear will remain protective throughout its lifecycle. Samples of 300 individuals will be collected from three fire departments. The time required to complete a data collection instrument will be about 30 minutes for the paper retrospective study and 10 minutes for each electronic prospective survey to be completed at the end of each shift, which is estimated to be 60 shifts over a 6-month period.

The following table provides an estimate of the annualized burden hours. The estimated total hours for this information collection is 3,150, over a three-year timeframe, with a maximum of 300 people.

Estimated Annualized Burden Hours
Type of respondents | Form name | Number of respondents | Number of responses per respondent | Average burden per response (in hours) | Total burden (in hours)
Individual Fire Fighter | Turnout Gear Safety Survey—Retrospective Exposures for past month | 100 | 1 | 30/60 | 50
| Turnout Gear Safety Survey—Prospective Exposures for six months | 100 | 60 | 10/60 | 1,000
Total |  |  |  |  | 1,050

Leroy A. Richardson,
Chief, Information Collection Review Office, Office of Scientific Integrity, Office of the Associate Director for Science, Office of the Director, Centers for Disease Control and Prevention.

[FR Doc. 2018-07562 Filed 4-11-18; 8:45 am]

BILLING CODE 4163-18-P